DEPARTMENT OF DEFENSE

GENERAL SERVICES ADMINISTRATION

NATIONAL AERONAUTICS AND SPACE ADMINISTRATION

48 CFR Chapter 1

[Docket No. FAR 2014-0051, Sequence No. 3]

Federal Acquisition Regulation; Federal Acquisition Circular 2005-75; Introduction

AGENCY: Department of Defense (DoD), General Services Administration (GSA), and National Aeronautics and Space Administration (NASA).

ACTION: Summary presentation of interim and final rules.

SUMMARY: This document summarizes the Federal Acquisition Regulation (FAR) rules agreed to by the Civilian Agency Acquisition Council and the Defense Acquisition Regulations Council (Councils) in this Federal Acquisition Circular (FAC) 2005-75. A companion document, the Small Entity Compliance Guide (SECG), follows this FAC. The FAC, including the SECG, is available via the Internet at http://www.regulations.gov.

DATES: For effective dates and comment dates see separate documents, which follow.

FOR FURTHER INFORMATION CONTACT: The analyst whose name appears in the table below in relation to the FAR case. Please cite FAC 2005-75 and the specific FAR case number. For information pertaining to status or publication schedules, contact the Regulatory Secretariat at 202-501-4755.

Rules Listed in FAC 2005-75
Item | Subject | FAR Case | Analyst
I | EPEAT Items (Interim) | 2013-016 | Chambers.
II | Contracting with Women-Owned Small Business Concerns | 2013-010 | Morgan.
III | Limitation on Allowable Government Contractor Compensation Costs (Interim) | 2014-012 | Chambers.

SUPPLEMENTARY INFORMATION: Summaries for each FAR rule follow. For the actual revisions and/or amendments made by these rules, refer to the specific item numbers and subjects set forth in the documents following these item summaries. FAC 2005-75 amends the FAR as specified below:

Item I—EPEAT Items (FAR Case 2013-016) (Interim)

This interim rule implements changes in the Electronic Product Environmental Assessment Tool (EPEAT®)-registry requirements at FAR subpart 23.7. The FAR requirement to procure EPEAT®-registered products is revised to incorporate the revised standard applicable to personal computer products and to add the standards for imaging equipment and televisions.

Item II—Contracting With Women-Owned Small Business Concerns (FAR Case 2013-010)

This final rule adopts as final, without change, an interim rule that amended FAR 19.1505 to remove the dollar limitation for set-asides for economically disadvantaged women-owned small business (EDWOSB) concerns or women-owned small business (WOSB) concerns eligible under the Women-Owned Small Business (WOSB) Program. The interim rule implemented section 1697 of the National Defense Authorization Act for Fiscal Year 2013, Public Law 112-239, which amended section 8(m) of the Small Business Act, (15 U.S.C. 637(m)).

As a result of this change, contracting officers may set aside acquisitions for competition restricted to EDWOSB concerns or WOSB concerns eligible under the WOSB Program at any dollar level above the micro-purchase threshold, provided the other requirements for a set-aside under the WOSB Program are met.

Item III—Limitation on Allowable Government Contractor Compensation Costs (FAR Case 2014-012) (Interim)

This interim rule amends the FAR to implement section 702 of the Bipartisan Budget Act of 2013. In accordance with section 702, this interim rule revises the allowable cost limit relative to the compensation of contractor and subcontractor employees. In the current FAR, this limitation on the allowability of compensation is an amount set annually by the Office of Federal Procurement Policy and covers all Federal agencies; it is currently $952,308. Under this interim rule, this limitation on a contractor's employee's compensation will be $487,000, adjusted annually to reflect the change in the Employment Cost Index for all workers as calculated by the Bureau of Labor Statistics. Also, in accordance with section 702, this interim rule implements the possible exception to this allowable cost limit for scientists, engineers, or other specialists upon an agency determination that such exceptions are needed to ensure that the executive agency has continued access to needed skills and capabilities. Because most contracts awarded to small businesses are awarded on a fixed-price basis, the impact of this compensation limitation on small businesses will be minimal.

Dated: June 13, 2014.
William Clark,
Acting Director, Office of Government-Wide Acquisition Policy, Office of Acquisition Policy, Office of Government-Wide Policy.

Federal Acquisition Circular (FAC) 2005-75 is issued under the authority of the Secretary of Defense, the Administrator of General Services, and the Administrator for the National Aeronautics and Space Administration.

Unless otherwise specified, all Federal Acquisition Regulation (FAR) and other directive material contained in FAC 2005-75 is effective June 24, 2014 except for item III, which is effective June 24, 2014.

Dated: June 13, 2014.
Linda Neilson,
Deputy Director, Defense Procurement and Acquisition Policy, for the Defense Acquisition Regulations System.
Dated: June 13, 2014.
Jeffrey A. Koses,
Senior Procurement Executive/Deputy CAO, Office of Acquisition Policy, U.S. General Services Administration.
Dated: June 12, 2014.
Ronald A. Poussard,
Director, Contract Management Division, National Aeronautics and Space Administration.

[FR Doc. 2014-14380 Filed 6-23-14; 8:45 am]

BILLING CODE 6820-EP-P